DEPARTMENT OF ENERGY

Federal Energy Regulatory Commission

Combined Notice of Filings

Take notice that the Commission has received the following Natural Gas Pipeline Rate and Refund Report filings:

Filings in Existing Proceedings

Docket Numbers: RP22-265-001.

Applicants: Rockies Express Pipeline LLC.

Description: Compliance filing: 2022-08-31 REX NAESB 3.1 and 3.2 Compliance Filing to be effective 10/1/2022.

Filed Date: 8/31/22.

Accession Number: 20220831-5070.

Comment Date: 5 p.m. ET 9/12/22.

Docket Numbers: RP22-266-001.

Applicants: Tallgrass Interstate Gas Transmission, LLC.

Description: Compliance filing: TIGT 2022-08-31 NAESB 3.1 and 3.2 Compliance Filing to be effective 10/1/2022.

Filed Date: 8/31/22.

Accession Number: 20220831-5072.

Comment Date: 5 p.m. ET 9/12/22.

Docket Numbers: RP22-267-001.

Applicants: Trailblazer Pipeline Company LLC.

Description: Compliance filing: 2022-08-31 TPC NAESB 3.1 and 3.2 Compliance Filing to be effective 10/1/2022.

Filed Date: 8/31/22.

Accession Number: 20220831-5076.

Comment Date: 5 p.m. ET 9/12/22.

Any person desiring to protest in any the above proceedings must file in accordance with Rule 211 of the Commission's Regulations (18 CFR 385.211) on or before 5:00 p.m. Eastern time on the specified comment date.

Filings Instituting Proceedings

Docket Numbers: RP22-1150-000.

Applicants: Tampa Electric Company, Peoples Gas System.

Description: Joint Petition for Temporary Waivers of Capacity Release Regulations, et al. of Tampa Electric Company and Peoples Gas System.

Filed Date: 8/24/22.

Accession Number: 20220824-5175.

Comment Date: 5 p.m. ET 9/8/22.

Docket Numbers: RP22-1175-000.

Applicants: TransColorado Gas Transmission Company LLC.

Description: § 4(d) Rate Filing: TC Quarterly FL&U Update to be effective 10/1/2022.

Filed Date: 8/31/22.

Accession Number: 20220831-5043.

Comment Date: 5 p.m. ET 9/12/22.

Docket Numbers: RP22-1176-000.

Applicants: Ruby Pipeline, L.L.C.

Description: § 4(d) Rate Filing: Negotiated Rate Agreement (SWG) to be effective 9/1/2022.

Filed Date: 8/31/22.

Accession Number: 20220831-5079.

Comment Date: 5 p.m. ET 9/12/22.

Docket Numbers: RP22-1177-000.

Applicants: Northern Natural Gas Company.

Description: § 4(d) Rate Filing: 20220831 Negotiated Rate to be effective 9/1/2022.

Filed Date: 8/31/22.

Accession Number: 20220831-5082.

Comment Date: 5 p.m. ET 9/12/22.

Docket Numbers: RP22-1178-000.

Applicants: El Paso Natural Gas Company, L.L.C.

Description: § 4(d) Rate Filing: Negotiated Rate Agreement Filing (MIECO) to be effective 9/1/2022.

Filed Date: 8/31/22.

Accession Number: 20220831-5084.

Comment Date: 5 p.m. ET 9/12/22.

Docket Numbers: RP22-1179-000.

Applicants: Colorado Interstate Gas Company, L.L.C.

Description: § 4(d) Rate Filing: Non-Conforming Agreement Filing (CSU #2195431-TI1CIG) to be effective 10/1/2022.

Filed Date: 8/31/22.

Accession Number: 20220831-5089.

Comment Date: 5 p.m. ET 9/12/22.

Docket Numbers: RP22-1180-000.

Applicants: Colorado Interstate Gas Company, L.L.C.

Description: § 4(d) Rate Filing: Fuel_Lost Unaccounted For Update to be effective 10/1/2022.

Filed Date: 8/31/22.

Accession Number: 20220831-5108.

Comment Date: 5 p.m. ET 9/12/22.

Docket Numbers: RP22-1181-000.

Applicants: Tennessee Gas Pipeline Company, L.L.C.

Description: § 4(d) Rate Filing: PAL NRA Wells Fargo Commodities, LLC SP378905 Amendment Exhibit C to be effective 9/1/2022.

Filed Date: 8/31/22.

Accession Number: 20220831-5129.

Comment Date: 5 p.m. ET 9/12/22.

Docket Numbers: RP22-1182-000.

Applicants: Millennium Pipeline Company, LLC.

Description: § 4(d) Rate Filing: ROFR Process for Expansion Capacity to be effective 10/1/2022.

Filed Date: 8/31/22.

Accession Number: 20220831-5131.

Comment Date: 5 p.m. ET 9/12/22.

Docket Numbers: RP22-1183-000.

Applicants: Equitrans, L.P.

Description: § 4(d) Rate Filing: Non-Conforming Negotiated Rate Agreement—10/1/2022 to be effective 10/1/2022.

Filed Date: 8/31/22.

Accession Number: 20220831-5141.

Comment Date: 5 p.m. ET 9/12/22.

Docket Numbers: RP22-1184-000.

Applicants: Transcontinental Gas Pipe Line Company, LLC.

Description: § 4(d) Rate Filing: Negotiated Rates—Cherokee AGL—Replacement Shippers—Sep 2022 to be effective 9/1/2022.

Filed Date: 8/31/22.

Accession Number: 20220831-5148.

Comment Date: 5 p.m. ET 9/12/22.

Docket Numbers: RP22-1185-000.

Applicants: El Paso Natural Gas Company, L.L.C.

Description: § 4(d) Rate Filing: Negotiated Rate Agmt Update (Conoco—Sep 22) to be effective 9/1/2022.

Filed Date: 8/31/22.

Accession Number: 20220831-5156.

Comment Date: 5 p.m. ET 9/12/22.

Docket Numbers: RP22-1186-000.

Applicants: Algonquin Gas Transmission, LLC.

Description: § 4(d) Rate Filing: Negotiated Rates—Various Releases eff 9-1-22 to be effective 9/1/2022.

Filed Date: 8/31/22.

Accession Number: 20220831-5162.

Comment Date: 5 p.m. ET 9/12/22.

Docket Numbers: RP22-1187-000.

Applicants: El Paso Natural Gas Company, L.L.C.

Description: § 4(d) Rate Filing: Negotiated Rate Agreements Update (SRP Oct 2022) to be effective 10/1/2022.

Filed Date: 8/31/22.

Accession Number: 20220831-5170.

Comment Date: 5 p.m. ET 9/12/22.

Docket Numbers: RP22-1188-000.

Applicants: Texas Eastern Transmission, LP.

Description: § 4(d) Rate Filing: Negotiated Rates UGI to DTE Energy 8978239 eff 9-1-22 to be effective 9/1/2022.

Filed Date: 8/31/22.

Accession Number: 20220831-5179.

Comment Date: 5 p.m. ET 9/12/22.

Docket Numbers: RP22-1189-000.

Applicants: NEXUS Gas Transmission, LLC.

Description: § 4(d) Rate Filing: Negotiated Rates—Various Releases 9-1-2022 to be effective 9/1/2022.

Filed Date: 8/31/22.

Accession Number: 20220831-5192.

Comment Date: 5 p.m. ET 9/12/22.

Docket Numbers: RP22-472-000.

Applicants: Interstate Gas Supply, Inc., Dominion Energy Solutions, Inc.

Description: Interstate Gas Supply, Inc. and Dominion Energy Solutions, Inc. submit Third Status Report.

Filed Date: 8/31/22.

Accession Number: 20220831-5188.

Comment Date: 5 p.m. ET 9/12/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2022.
Debbie-Anne A. Reese,
Deputy Secretary.

[FR Doc. 2022-19390 Filed 9-7-22; 8:45 am]

BILLING CODE 6717-01-P